DEPARTMENT OF THE INTERIOR

Bureau of Land Management

[WO-220-01-1020-JA-VEIS]

Changes to the Schedule and Scope of Public Scoping Meetings for the Environmental Impact Statement for Vegetation Treatments, Watersheds and Wildlife Habitats on Public Lands Administered by the Bureau of Land Management in the Western United States, Including Alaska

AGENCY: Bureau of Land Management, Interior.

ACTION: Supplemental Notice to Change to Dates for Public Scoping Meetings and change the scope of the EIS.

SUMMARY: Pursuant to section 102(2)(C) of the National Environmental Policy Act of 1969 (NEPA), the BLM will prepare a national, programmatic EIS and conduct public scoping meetings on BLM's use of prescribed burning, biological control, cultural practices, mechanical, and chemical treatment of vegetation, including noxious weeds and other invasive species in public lands management. These methods will continue to be integrated into BLM's efforts to conserve and restore native vegetation, watersheds and wildlife habitats to protect people, sustain natural resources and provide for long-term multiple uses. The EIS addresses public lands administered by BLM in 16 western states, including Alaska. The public may submit comments during the initial scoping period through March 29, 2002.

DATES: You may submit written comments through March 29, 2002. The BLM will hold public scoping meetings to focus on human and environmental concerns, identify possible alternatives, and identify significant issues related to the proposed action.

New dates for the postponed Salt Lake City, Utah; Rock Springs, Wyoming; Socorro, New Mexico; and Phoenix, Arizona meetings are as listed in the following schedule:

Date and time | Locations | BLM contact
January 22, 6-9 p.m | BLM Office Conference Room, 345 E. Riverside Drive, St. George, UT | Kim Leany (435) 688-3208.
January 23, 5-8 p.m | Utah Dept. of Natural Resources Bldg., 1594 W. North Temple, Salt Lake City, UT | Verlin Smith (801) 539-4055.
January 24, 2-5 p.m. and 6-9 p.m | Grand Vista Hotel, 2790 Crossroads Blvd., Grand Junction, CO | Harley Metz (970) 244-3076.
January 29, 4-7 p.m | Miles Community College—Room 106, 2715 Dickinson, Miles City, MT | Jody Weil (406) 896-5258.
January 30, 3-6 p.m | Western Wyoming Community College, Room 1003, 2500 College Drive, Rock Springs, WY | Lance Porter (307) 352-0252.
January 31, 4-7 p.m | Elks Lodge, 604 Coburn Avenue, Worland, WY | Janine Terry (307) 347-5194.
February 4, 3-5 p.m. and 6-9 p.m | Holiday Inn Crown Plaza, 2532 W. Peoria Avenue, Phoenix, AZ | Deborah Stevens (602) 417-9215.
February 5, 5-8 p.m | Sacred Heart Parish Hall, 507 East 4th Street, Alturas, CA | Jennifer Purvine (530) 233-7932.
February 11, 5-8 p.m | U.S. Forest Service, Helena National Forest Headquarters, 2880 Skyway Drive, Helena, MT (across from airport) | Jody Weil (406) 896-5258.
February 13, 6-9 p.m. | Vista Inn, 2645 Airport Way, Boise, ID | Barry Rose (208) 373-4014.
February 14, 6-9 p.m | College of Southern Idaho, 315 Falls Ave, Shields Bldg, Room 117, Twin Falls, ID | Eddie Guerrero (208) 736-2355.
February 19, 4-7 p.m | BLM-Nevada State Office, 1340 Financial Blvd., Reno, NV | JoLynn Worley (775) 861-6515.
February 21, 2-5 p.m and 6-9 p.m | Hilton Garden Inn, 3650 East Idaho Street, Elko, NV | Mike Brown (775) 753-0200.
February 25, 6-9 p.m | Holiday Inn Express—Neptune Room, 1100 North California, Socorro, NM | Margie Onstad (505) 838-1256.
February 26, 5-8 p.m | Holiday Inn Select, 801 Truxton Ave, Bakersfield, CA | Stephen Larson (661) 391-6099.
February 28, 6-9 p.m | Valley Library, 12004 East Main, Spokane, WA | Kathy Helm (509) 536-1252.
March 4, 6-9 p.m | Days Inn City Center, 1414 SW 6th, Portland, OR | Chris Strebig (503) 952-6003.
March 6, 3-6 p.m | Anchorage Field Office—BLM, 6881 Abbott Loop Road, Anchorage, AK | Gene Terland (907) 271-3344.
March 12, 9 a.m.-12 noon | Washington Plaza Hotel—Franklin Room, 10 Thomas Circle, (Massachusetts and 14th Street), Washington, DC | Sharon Wilson (202) 452-5130.

ADDRESSES: For further information, to provide written comments, or to be placed on the mailing list for this EIS, contact Brian Amme, Project Manager, Bureau of Land Management, P.O. Box 12000, Reno, Nevada 89520-0006; telephone (775) 861-6645. Comments will be available for public inspection at the BLM Nevada State Office, 1340 Financial Blvd.; Reno, Nevada 89502.

Individual respondents may request confidentiality. If you wish your name and/or address withheld from public review or disclosure, you must state this prominently at the beginning of your comment. Such requests will be honored to the extent allowed by law. All submissions from organizations or businesses, and from individuals identifying themselves as representatives or officials of organizations or businesses, will be available for public inspection in their entirety.

SUPPLEMENTARY INFORMATION: This national, programmatic EIS will support implementation of the Department of the Interior's cohesive strategy plan for restoring fire-adapted ecosystems. The EIS will also provide a comprehensive cumulative analysis of the variety of vegetation treatments BLM employs for the conservation and restoration of vegetation communities, watersheds and wildlife habitats that are designed to protect people, sustain natural resources and provide for long-term multiple uses (as specified in locally developed land use plans). Conservation and restoration activities analyzed in this document include prescribed fire, riparian restoration, native plant community restoration, invasive plants and noxious weeds treatments, understory thinning, forest health treatments, or other activities related to restoring fire-adapted ecosystems. The EIS will:

• Consider state-specific, reasonably foreseeable activities, including hazardous fuels reduction treatments.

• Address human health risk assessments for proposed use of new chemicals on public lands.

The EIS is not a land-use plan or a land-use plan amendment. It will provide a comprehensive document to allow effective tiering to the EIS and serve as a baseline cumulative impact assessment for other new, revised or existing land use and activity level plans that involve vegetation, wildlife habitat and watershed treatment, modification or maintenance.

• An updated EIS is necessary for BLM to analyze proposed treatments on more than 6 million acres annually. Treatments will include prescribed and managed natural fire, Integrated Weed Management, hazardous fuels reduction, Emergency Stabilization and Rehabilitation, and landscape-level restoration initiatives such as Great Basin Restoration Initiative. Current average annual acres of treatment selected in the existing BLM records of decision (RODs) equate to about 500,000 acres for the combined western states.

• The analysis area includes only surface estate public lands administered by 11 BLM state offices: Alaska, Arizona, California, Colorado, Idaho, Montana (Dakotas), New Mexico (Oklahoma/Texas/Kansas), Nevada, Oregon (Washington), Utah and Wyoming (Nebraska).

• This EIS will consolidate four existing BLM vegetation treatment EISs developed between 1986 and 1992 into one programmatic document for the western United States, including Alaska. The EIS will update information and change to reflect new information and changed conditions on public lands since that time.

The BLM has initially identified the following issues for analysis in this programmatic EIS: hazardous fuels reduction and treatments, including mechanical treatments, treatments benefitting wildlife habitat, restoration of ecological processes (predominately fire), watershed and vegetation community health treatments. It will consider the effects of these treatments on new listings of threatened and endangered species and on other sensitive and special status species, cultural properties and Native American/Alaskan Native subsistence practices. The EIS will also analyze new chemical formulations for herbicides deemed to be more environmentally favorable, smoke management and air quality, emergency stabilization and rehabilitation treatments following wildfire, and the effects of treatments on vegetation, soils, watershed and water quality.

Henri Bisson,
Assistant Director, Renewable Resources and Planning.

[FR Doc. 02-1659 Filed 1-18-02; 8:45 am]

BILLING CODE 4310-84-P